INTERNATIONAL TRADE COMMISSION

19 CFR Part 207

Revised Procedures and Requests for Information During Adequacy Phase of Five-Year Reviews

AGENCY: United States International Trade Commission.

ACTION: Notice of proposed rulemaking.

SUMMARY: The United States International Trade Commission (“the Commission”) proposes to amend its Rules of Practice and Procedure to require that responses to notices of institution of five-year reviews be filed within 30 days of publication of the notice, as opposed to the 50-day response period specified in its current rules. It additionally seeks public comment on proposals, which would not require changes in its rules, to seek additional information from interested parties at the institution of five-year reviews, and to seek information from purchasers during the adequacy phase of five-year reviews in certain circumstances.

DATES: To be assured of consideration, written comments must be received by September 15, 2008.

ADDRESSES: You may submit comments, identified by docket number MISC-024, by any of the following methods:

—Federal eRulemaking Portal: http://www.regulations.gov. Follow the instructions for submitting comments.

—Agency Web Site: http://www.usitc.gov. Follow the instructions for submitting comments on the Web site at http://www.usitc.gov/secretary/edis.htm.

—Mail: For paper submission. U.S. International Trade Commission, 500 E Street, SW., Room 112, Washington, DC 20436.

—Hand Delivery/Courier: U.S. International Trade Commission, 500 E Street, SW., Room 112, Washington, DC 20436, from the hours of 8:45 a.m. to 5:15 p.m.

Instructions: All submissions received must include the agency name and docket number (MISC-024) for this rulemaking. All comments received will be posted without change to http://www.usitc.gov, including any personal information provided. For paper copies, a signed original and 14 copies of each set of comments, along with a cover letter stating the nature of the commenter's interest in the proposed rulemaking, should be submitted to Marilyn R. Abbott, Secretary, U.S. International Trade Commission, 500 E Street, SW., Room 112, Washington, DC 20436.

Docket: For access to the docket to read background documents or comments received, go to http://www.usitc.gov and/or the U.S. International Trade Commission, 500 E Street, SW., Room 112, Washington, DC 20436. The pertinent docket number is MISC-024.

FOR FURTHER INFORMATION CONTACT: Marc A. Bernstein, Office of General Counsel, U.S. International Trade Commission, telephone 202-205-3087, or Robert G. Carpenter, Office of Investigations, U.S. International Trade Commission, telephone 202-205-3160. Hearing-impaired individuals can obtain information on this matter by contacting the Commission's TDD terminal at 202-205-1810. General information concerning the Commission may also be obtained by visiting its Web site at www.usitc.gov.

SUPPLEMENTARY INFORMATION: The preamble below is designed to assist readers in understanding these proposed changes to Commission procedures during the adequacy phase of five-year reviews. This preamble provides background information, a regulatory analysis of the proposed amendment to the Commission's Rules of Practice and Procedure, an explanation of the procedural changes proposed, and a description of the proposed amendment to the rules. The Commission encourages members of the public to comment, in addition to any other comments they wish to make on the proposed amendment, on whether the proposed amendment is in language that is sufficiently clear for users to understand.

If the Commission decides to proceed with this rulemaking after reviewing the comments filed in response to this notice, the proposed rule revision concerning the period for responding to notices of institution will be published in the Federal Register and will be codified in 19 CFR part 207.

Background

The Tariff Act of 1930, as amended, directs the Commission to conduct five-year reviews of antidumping and countervailing duty orders and suspension agreements. 19 U.S.C. 1675(c). Subpart F of Chapter 207 of Title 19 of the Code of Federal Regulations contains regulations concerning procedures the Commission uses in five-year reviews.

Under section 207.60(d) of the Commission's Rules of Practice and Procedure, 19 CFR 207.60(d), the Commission publishes a notice of institution when it institutes five-year review proceedings pursuant to 19 U.S.C. 1675(c). In the notice of institution, the Commission directs interested parties to provide certain information. Neither the statute nor the Commission's regulations specify the information the Commission requests in the notice of institution. The Commission's Rules of Practice and Procedure, however, require that any response to the notice of institution be filed within 50 days after publication of the notice in the Federal Register. 19 CFR 207.61(a).

In this notice, the Commission seeks comments on two sets of proposed modifications to its procedures in five-year reviews. The first, which does not require a change to the Commission's regulations, would modify the information the Commission requests in the notice of institution. The second proposes to amend section 207.61(a) of the Commission's Rules of Practice and Procedure to require that responses to the notice of institution be filed within 30 days after its publication.

Regulatory Analysis of Proposed Amendment to the Commission's Rules

The Commission has determined that the proposed rule does not meet the criteria described in section 3(f) of Executive Order 12866 (58 FR 51735, Oct. 4, 1993) and thus does not constitute a significant regulatory action for purposes of the Executive Order.

The Regulatory Flexibility Act (5 U.S.C. 601 et seq.) is inapplicable to this rulemaking because it is not one for which a notice of proposed rulemaking is required under 5 U.S.C. 553(b) or any other statute. Although the Commission has chosen to publish a notice of proposed rulemaking, the proposed regulation falls within the exemption from the notice requirements imposed by 5 U.S.C. 553(b) for “agency rules of procedure and practice.”

The proposed rule does not contain federalism implications warranting the preparation of a federalism summary impact statement pursuant to Executive Order 13132 (64 FR 43255, Aug. 4, 1999).

No actions are necessary under the Unfunded Mandates Reform Act of 1995 (2 U.S.C. 1501 et seq.) because the proposed rule will not result in the expenditure by State, local, and tribal governments, in the aggregate, or by the private sector, of $100,000,000 or more in any one year, and will not significantly or uniquely affect small governments.

The proposed rule is not a major rule as defined by section 804 of the Small Business Regulatory Enforcement Fairness Act of 1996 (5 U.S.C. 801 et seq.). Moreover, it is exempt from the reporting requirements of the Contract With America Advancement Act of 1996 (Pub. L. 104-121) because it is a rule of organization, procedure, or practice that does not substantially affect the rights or obligations of non-agency parties.

The proposed rule is not subject to section 3504(h) of the Paperwork Reduction Act (44 U.S.C. 3501 et seq.), because it does not contain any new information collection requirement. The information collection requirements that are discussed in this notice are the subject of a generic survey clearance proceeding currently pending before the Office of Management and Budget. See 72 FR 68896 (Dec. 6, 2007).

The Commission, as an independent regulatory agency as defined in Executive Order 12866 of Sept. 30, 1993, is exempt from the memorandum dated May 9, 2008, Issuance of Agency Regulations at the End of the Administration.

Explanation of Proposed Changes in Commission Data Collection

The Commission has modified the information it requests interested parties to provide in response to its notice of institution in only minor respects since it began instituting five-year reviews in 1998.¹ The Commission now seeks to make more substantial changes to its information requests. Based on its decade of experience in conducting five-year reviews, the Commission believes that requesting additional information in its notice of institution will aid it both in deciding whether to expedite a review pursuant to 19 U.S.C. 1675(c)(3)(B) and 19 CFR 207.62 and in conducting expedited reviews.

¹ The Commission first published a sample notice of institution in the June 5, 1998, Federal Register. 63 FR 30599, 30609-10 (June 5, 1998). Since that time, the only material change the Commission has made to the notice is to request that producers of the domestic like product provide quantity and value data on internal consumption and company transfers.

The Commission is proposing to modify its notice of institution. As illustrated in Appendix A, the revised model notice contains the following additional information requests:

• All interested parties will be requested to provide a listing of the three to five leading purchasers of the domestic like product and the subject merchandise in the U.S. market.

• All interested parties will be requested to provide sources of information concerning prices for the domestic like product and the subject merchandise in the U.S. market and other world markets.

• Both producers of the domestic like product and producers of subject merchandise will be requested to provide capacity information for the most recent calendar year.

• Domestic producers will be requested to provide financial information on their operations producing the domestic like product for the most recent fiscal year, including the value of net sales; cost of goods sold; gross profit; selling, general, and administrative expenses; and operating income.

The Commission has two principal objectives in requesting additional information in its notice of institution. First, the Commission believes that the additional information it seeks will better enable it to ascertain whether to expedite a review pursuant to section 207.62 of the Commission's Rules of Practice and Procedure. As explained further below, the Commission believes that asking interested parties to identify three to five leading purchasers will enable it, in certain circumstances, to direct information requests to purchasers for use in the adequacy phase of the review. Second, the Commission seeks to have additional information in those reviews that it does expedite. The Commission believes that requesting additional information concerning capacity, financial performance, and pricing will enable it to achieve this objective. It further believes that the additional data requests it is proposing will not unduly burden interested parties.

In those reviews where the Commission does not receive responses to the notice of institution from both domestic interested parties and respondent interested parties, the Commission will transmit brief questionnaires to purchasers shortly after it receives responses to the notice of institution.² A sample of this questionnaire appears as Appendix B to this Notice. These questionnaires will ask purchasers to identify significant changes, if any, in supply or demand conditions or the business cycle that have occurred in the United States for the domestic like product, or in world markets for the subject merchandise, since the date the order or suspension agreement under review became effective.

² When the Commission receives responses to the Notice of Institution from both domestic and respondent interested parties, it typicaly does not require further information to determine whether to conduct a full or expedited review. It such circumstances, it would not normally contemplate circulating the brief questionnaire to purchasers.

When there is inadequate response to the notice of institution from an interested party group, the Commission has the authority to conduct an expedited review. The Commission has found, however, that conducting an expedited review is not always appropriate when an interested party group response is inadequate. For example, if there have been major changes in the conditions of competition since the time of the original investigation pertaining to the domestic like product or the subject merchandise in the U.S. market, the subject countries, or worldwide, the Commission may find conducting a full review to be appropriate notwithstanding the inadequate response. The Commission believes that seeking information from purchasers concerning current conditions of competition, and asking purchasers to compare current conditions to those prevailing at the time the order or suspension agreement under review was imposed, will enable it better to ascertain whether it should conduct a full review notwithstanding inadequate response from an interested party group.

Explanation of Proposed Change to Commission Rule 207.61(a)

The changes proposed above, if implemented, will require the Commission staff to devote additional time during the adequacy phase of five-year reviews to analyze the additional information requested in the notice of institution, to circulate the brief adequacy phase questionnaires to purchasers in appropriate circumstances, and to analyze the responses to the purchaser questionnaires. To permit the Commission staff the additional time it needs to engage in such additional information collection and analysis, the Commission proposes amending section 207.61(a) of the Commission's Rules of Practice and Procedure to require that responses to the notice of institution be submitted within 30 days after publication of the notice, as opposed to the current 50 days. The Commission believes that the 30-day period will provide interested parties sufficient time to respond to the notice. Moreover, there will continue to be no need for respondent interested parties to file a response to the Commission's notice of institution in reviews where no domestic interested party has responded to the notice of initiation issued by the Department of Commerce (“Commerce”), which results in Commerce terminating the review (and revoking any pertinent orders under review) pursuant to 19 CFR 351.218(d)(1)(iii). Responses to the Commission's notice will not be due until 10 days after Commerce would notify the Commission pursuant to 19 CFR 351.218(d)(1)(iii)(B)(2) that no domestic interested party has responded to Commerce's notice of initiation.

Request for Comment

The Commission solicits comments from interested parties and practitioners concerning these proposals. All comments should be filed in writing no later than 60 days after publication of this notice in the Federal Register.

With respect to the proposed changes in information collection, the Commission is particularly interested in comments concerning whether the additional information it intends to collect: (1) Will satisfy the objective of augmenting the record before the Commission when it determines whether to conduct an expedited or full review; (2) will satisfy the objective of augmenting the record before the Commission in expedited reviews; and (3) will satisfy the objective of not unduly burdening interested parties and purchasers requested to provide the information. The Commission also seeks comment concerning whether requesting additional or alternative types of information will better enable the Commission to achieve these objectives. With respect to the proposed amendment to Commission rule 207.61(a), the Commission seeks comment concerning whether a 30-day response period will impair interested parties' ability to respond fully to the notice of institution.

List of Subjects in 19 CFR Part 207

Administrative practice and procedure, Investigations.

For the reasons stated in the preamble, the Commission proposes to amend 19 CFR part 207 as follows:

PART 207—INVESTIGATIONS OF WHETHER INJURY TO DOMESTIC INDUSTRIES RESULTS FROM IMPORTS SOLD AT LESS THAN FAIR VALUE OR FROM SUBSIDIZED EXPORTS TO THE UNITED STATES

1. The authority citation for part 207 continues to read as follows:

Authority: 19 U.S.C. 1336, 1671-1677n, 2482, 3513.

2. Amend § 207.61 by revising paragraph (a) as follows:

§ 207.61 Responses to notice of institution.

(a) When information must be filed. Responses to the notice of institution shall be submitted to the Commission no later than 30 days after its publication in the Federal Register.

* * * * *

Note: The following appendices would not appear in the Code of Federal Regulations.

Appendix A

Revisions to Notice of Institution

Note: The portions of the revised notice of institution that seek information from interested parties are reproduced below. The Commission does not contemplate modifying the introductory portions of the notice. Proposed new information requests are indicated by {bold text surrounded by curved brackets}. These are requests 7, 8, 9b, 9e, and 11b.

Background.—On DATE, the Department of Commerce issued a countervailing duty order/an antidumping duty order/suspended a countervailing duty/antidumping duty investigation on imports of PRODUCT from COUNTRY (xx FR xxxxx). The Commission is conducting a review to determine whether revocation of the order/termination of the suspended investigation would be likely to lead to continuation or recurrence of material injury to the domestic industry within a reasonably foreseeable time. It will assess the adequacy of interested party responses to this notice of institution to determine whether to conduct a full review or an expedited review. The Commission's determination in any expedited review will be based on the facts available, which may include information provided in response to this notice.

Definitions.—The following definitions apply to this review:

(1) Subject Merchandise is the class or kind of merchandise that is within the scope of the five-year review, as defined by the Department of Commerce.

(2) The Subject Country in this review is COUNTRY.

(3) The Domestic Like Product is the domestically produced product or products which are like, or in the absence of like, most similar in characteristics and uses with, the Subject Merchandise. In its original determination, the Commission defined the Domestic Like Product as INSERT DEFINITION. (Add the following if applicable). One Commissioner/Certain Commissioners defined the Domestic Like Product differently.

(4) The Domestic Industry is the U.S. producers as a whole of the Domestic Like Product, or those producers whose collective output of the Domestic Like Product constitutes a major proportion of the total domestic production of the product. In its original determination, the Commission defined the Domestic Industry as producers of INSERT DEFINITION. (Add the following if applicable). One Commissioner/Certain Commissioners defined the Domestic Industry differently.

(5) The Order Date is the date that the countervailing duty order under review became effective/antidumping duty order under review became effective/investigation was suspended. In this review, the Order Date is DATE.

(6) An Importer is any person or firm engaged, either directly or through a parent company or subsidiary, in importing the Subject Merchandise into the United States from a foreign manufacturer or through its selling agent.

Participation in the review and public service list.—Persons, including industrial users of the Subject Merchandise and, if the merchandise is sold at the retail level, representative consumer organizations, wishing to participate in the review as parties must file an entry of appearance with the Secretary to the Commission, as provided in section 201.11(b)(4) of the Commission's rules, no later than 21 days after publication of this notice in the Federal Register. The Secretary will maintain a public service list containing the names and addresses of all persons, or their representatives, who are parties to the review.

Former Commission employees who are seeking to appear in Commission five-year reviews are advised that they may appear in a review even if they participated personally and substantially in the corresponding underlying original investigation. The Commission's designated agency ethics official recently has advised that a five-year review is no longer considered the “same particular matter” as the corresponding underlying original investigation for purposes of 18 U.S.C. 207, the post-employment statute for Federal employees, and Commission rule 201.15(b)(19 CFR 201.15(b)), 73 FR 24609 (May 5, 2008). This advice was developed in consultation with the Office of Government Ethics. Consequently, former employees are no longer required to seek Commission approval to appear in a review under Commission rule 19 CFR 201.15, even if the corresponding underlying original investigation was pending when they were Commission employees. For further ethics advice on this matter, contact Carol McCue Verratti, Deputy Agency Ethics Official, at 202-205-3088.

Limited disclosure of business proprietary information (BPI) under an administrative protective order (APO) and APO service list.—Pursuant to section 207.7(a) of the Commission's rules, the Secretary will make BPI submitted in this review available to authorized applicants under the APO issued in the review, provided that the application is made no later than 21 days after publication of this notice in the Federal Register. Authorized applicants must represent interested parties, as defined in 19 U.S.C. 1677(9), who are parties to the review. A separate service list will be maintained by the Secretary for those parties authorized to receive BPI under the APO.

Certification.—Pursuant to section 207.3 of the Commission's rules, any person submitting information to the Commission in connection with this review must certify that the information is accurate and complete to the best of the submitter's knowledge. In making the certification, the submitter will be deemed to consent, unless otherwise specified, for the Commission, its employees, and contract personnel to use the information provided in any other reviews or investigations of the same or comparable products which the Commission conducts under Title VII of the Act, or in internal audits and investigations relating to the programs and operations of the Commission pursuant to 5 U.S.C. Appendix 3.

Written submissions.—Pursuant to section 207.61 of the Commission's rules, each interested party response to this notice must provide the information specified below. The deadline for filing such responses is DATE. Pursuant to section 207.62(b) of the Commission's rules, eligible parties (as specified in Commission rule 207.62(b)(1)) may also file comments concerning the adequacy of responses to the notice of institution and whether the Commission should conduct an expedited or full review. The deadline for filing such comments is DATE. All written submissions must conform with the provisions of sections 201.8 and 207.3 of the Commission's rules and any submissions that contain BPI must also conform with the requirements of sections 201.6 and 207.7 of the Commission's rules. The Commission's rules do not authorize filing of submissions with the Secretary by facsimile or electronic means, except to the extent permitted by section 201.8 of the Commission's rules, as amended, 67 FR 68036 (November 8, 2002). Also, in accordance with sections 201.16(c) and 207.3 of the Commission's rules, each document filed by a party to the review must be served on all other parties to the review (as identified by either the public or APO service list as appropriate), and a certificate of service must accompany the document (if you are not a party to the review you do not need to serve your response).

Inability to provide requested information.—Pursuant to section 207.61(c) of the Commission's rules, any interested party that cannot furnish the information requested by this notice in the requested form and manner shall notify the Commission at the earliest possible time, provide a full explanation of why it cannot provide the requested information, and indicate alternative forms in which it can provide equivalent information. If an interested party does not provide this notification (or the Commission finds the explanation provided in the notification inadequate) and fails to provide a complete response to this notice, the Commission may take an adverse inference against the party pursuant to section 776(b) of the Act in making its determination in the review.

Information To Be Provided In Response To This Notice of Institution: (Add the following material if more than one like product is involved.) Please provide the requested information separately for each Domestic Like Product, as defined by the Commission in its original determinations, and for each of the products identified by Commerce as Subject Merchandise. (Add the following material if more than one country is involved.) If you are a domestic producer, union/worker group, or trade/business association; import/export Subject Merchandise from more than one Subject Country; or produce Subject Merchandise in more than one Subject Country, you may file a single response. If you do so, please ensure that your response to each question includes the information requested for each pertinent Subject Country. As used below, the term “firm” includes any related firms.

(1) The name and address of your firm or entity (including World Wide Web address) and name, telephone number, fax number, and e-mail address of the certifying official.

(2) A statement indicating whether your firm/entity is a U.S. producer of the Domestic Like Product, a U.S. union or worker group, a U.S. importer of the Subject Merchandise, a foreign producer or exporter of the Subject Merchandise, a U.S. or foreign trade or business association, or another interested party (including an explanation). If you are a union/worker group or trade/business association, identify the firms in which your workers are employed or which are members of your association.

(3) A statement indicating whether your firm/entity is willing to participate in this review by providing information requested by the Commission.

(4) A statement of the likely effects of the revocation of the countervailing duty order/revocation of the antidumping duty order/termination of the suspended investigation on the Domestic Industry in general and/or your firm/entity specifically. In your response, please discuss the various factors specified in section 752(a) of the Act (19 U.S.C. 1675a(a)) including the likely volume of subject imports, likely price effects of subject imports, and likely impact of imports of Subject Merchandise on the Domestic Industry.

(5) A list of all known and currently operating U.S. producers of the Domestic Like Product. Identify any known related parties and the nature of the relationship as defined in section 771(4)(B) of the Act (19 U.S.C. 1677(4)(B)).

(6) A list of all known and currently operating U.S. importers of the Subject Merchandise and producers of the Subject Merchandise in the Subject Country that currently export or have exported Subject Merchandise to the United States or other countries since the Order Date.

{(7) A list of 3-5 leading purchasers in the U.S. market for the Domestic Like Product and the Subject Merchandise (including street address, World Wide Web address, and the name, telephone number, fax number, and E-mail address of a responsible official at each firm).}

{(8) A list of known sources of information on national or regional prices for the Domestic Like Product or the Subject Merchandise in the U.S. or other markets.}

(9) If you are a U.S. producer of the Domestic Like Product, provide the following information on your firm's operations on that product during calendar year PRECEDING YEAR, {except as noted} (report quantity data in MEASUREMENT UNIT and value data in thousands of U.S. dollars, f.o.b. plant). If you are a union/worker group or trade/business association, provide the information, on an aggregate basis, for the firms in which your workers are employed/which are members of your association.

(a) Production (quantity) and, if known, an estimate of the percentage of total U.S. production of the Domestic Like Product accounted for by your firm's(s') production;

{(b) Capacity (quantity) of your firm to produce the Domestic Like Product (i.e., the level of production that your establishment(s) could reasonably have expected to attain during the year, assuming normal operating conditions (using equipment and machinery in place and ready to operate), normal operating levels (hours per week/weeks per year), time for downtime, maintenance, repair, and cleanup, and a typical or representative product mix)};

(c) the quantity and value of U.S. commercial shipments of the Domestic Like Product produced in your U.S. plant(s);

(d) the quantity and value of U.S. internal consumption/company transfers of the Domestic Like Product produced in your U.S. plant(s); and

{(e) the value of (i) net sales, (ii) cost of goods sold (COGS), (iii) gross profit, (iv) selling, general and administrative (SG&A) expenses, and (v) operating income of the Domestic Like Product produced in your U.S. plant(s) (include both U.S. and export commercial sales, internal consumption, and company transfers) for your most recently completed fiscal year (identify the date on which your fiscal year ends).}

(10) If you are a U.S. importer or a trade/business association of U.S. importers of the Subject Merchandise from the Subject Country, provide the following information on your firm's(s') operations on that product during calendar year PRECEDING YEAR (report quantity data in MEASUREMENT UNIT and value data in thousands of U.S. dollars). If you are a trade/business association, provide the information, on an aggregate basis, for the firms which are members of your association.

(a) The quantity and value (landed, duty-paid but not including antidumping or countervailing duties) of U.S. imports and, if known, an estimate of the percentage of total U.S. imports of Subject Merchandise from the Subject Country accounted for by your firm's(s') imports;

(b) the quantity and value (f.o.b. U.S. port, including antidumping and/or countervailing duties) of U.S. commercial shipments of Subject Merchandise imported from the Subject Country; and

(c) the quantity and value (f.o.b. U.S. port, including antidumping and/or countervailing duties) of U.S. internal consumption/company transfers of Subject Merchandise imported from the Subject Country.

(11) If you are a producer, an exporter, or a trade/business association of producers or exporters of the Subject Merchandise in the Subject Country, provide the following information on your firm's(s') operations on that product during calendar year PRECEDING YEAR (report quantity data in MEASUREMENT UNIT and value data in thousands of U.S. dollars, landed and duty-paid at the U.S. port but not including antidumping or countervailing duties). If you are a trade/business association, provide the information, on an aggregate basis, for the firms which are members of your association.

(a) Production (quantity) and, if known, an estimate of the percentage of total production of Subject Merchandise in the Subject Country accounted for by your firm's(s') production;

{(b) Capacity (quantity) of your firm to produce the Subject Merchandise in the Subject Country (i.e., the level of production that your establishment(s) could reasonably have expected to attain during the year, assuming normal operating conditions (using equipment and machinery in place and ready to operate), normal operating levels (hours per week/weeks per year), time for downtime, maintenance, repair, and cleanup, and a typical or representative product mix); and}

(c) the quantity and value of your firm's(s') exports to the United States of Subject Merchandise and, if known, an estimate of the percentage of total exports to the United States of Subject Merchandise from the Subject Country accounted for by your firm's(s') exports.

(12) Identify significant changes, if any, in the supply and demand conditions or business cycle for the Domestic Like Product that have occurred in the United States or in the market for the Subject Merchandise in the Subject Country since the Order Date, and significant changes, if any, that are likely to occur within a reasonably foreseeable time. Supply conditions to consider include technology; production methods; development efforts; ability to increase production (including the shift of production facilities used for other products and the use, cost, or availability of major inputs into production); and factors related to the ability to shift supply among different national markets (including barriers to importation in foreign markets or changes in market demand abroad). Demand conditions to consider include end uses and applications; the existence and availability of substitute products; and the level of competition among the Domestic Like Product produced in the United States, Subject Merchandise produced in the Subject Country, and such merchandise from other countries.

(13) (OPTIONAL) A statement of whether you agree with the above definitions of the Domestic Like Product and Domestic Industry; if you disagree with either or both of these definitions, please explain why and provide alternative definitions.

Appendix B

Adequacy Phase Purchaser Questionnaire

Definitions.—The following definitions apply to this request:

(1) Subject Merchandise is the class or kind of merchandise that is within the scope of the five-year review, as defined by the Department of Commerce.

(2) The Subject Country in this review is COUNTRY.

(3) The Domestic Like Product is the domestically produced product or products which are like, or in the absence of like, most similar in characteristics and uses with, the Subject Merchandise. In its original determination, the Commission defined the Domestic Like Product as INSERT DEFINITION.

(4) The Order Date is the date that the countervailing duty order under review became effective/antidumping duty order under review became effective/investigation was suspended. In this review, the Order Date is DATE.

In your responses to the following questions, please identify significant changes, if any, in the supply and demand conditions or business cycle for the Domestic Like Product that have occurred in the United States or in the market for the Subject Merchandise in the Subject Country since the Order Date, and significant changes, if any, that are likely to occur within a reasonably foreseeable time.

1a. Have any changes occurred in technology; production methods; or development efforts that affected the availability of the Domestic Like Product in the U.S. market or in the market for the Subject Merchandise in the Subject Country since the Order Date? _No _Yes.

If your answer is yes, discuss any significant changes, noting the time period and market in which they occurred.

1b. Do you anticipate any changes in terms of technology; production methods; or development efforts that will affect the availability of the Domestic Like Product in the U.S. market or in the market for the Subject Merchandise in the Subject Country within a reasonably foreseeable time? _No _Yes

If your answer is yes, please describe any significant changes and identify the time period and market.

2a. Have any changes occurred in the ability to increase production (including the shift of production facilities used for other products and the use, cost, or availability of major inputs into production) that affected the availability of the Domestic Like Product in the U.S. market or in the market for the Subject Merchandise in the Subject Country since the Order Date? _No _Yes

If your answer is yes, discuss any significant changes, noting the time period and market in which they occurred.

2b. Do you anticipate any changes in terms of the ability to increase production (including the shift of production facilities used for other products and the use, cost, or availability of major inputs into production) that will affect the availability of the Domestic Like Product in the U.S. market or in the market for the Subject Merchandise in the Subject Country within a reasonably foreseeable time? _No _Yes

If your answer is yes, please describe any significant changes and identify the time period and market.

3a. Have any changes occurred in factors related to the ability to shift supply among different national markets (including barriers to importation in foreign markets or changes in market demand abroad) that affected the availability of the Domestic Like Product in the U.S. market or in the market for the Subject Merchandise in the Subject Country since the Order Date? _No _Yes

If your answer is yes, discuss any significant changes, noting the time period and market in which they occurred.

3b. Do you anticipate any changes in terms of factors related to the ability to shift supply among different national markets (including barriers to importation in foreign markets or changes in market demand abroad) that will affect the availability of the Domestic Like Product in the U.S. market or in the market for the Subject Merchandise in the Subject Country within a reasonably foreseeable time? _No _Yes

If your answer is yes, please describe any significant changes and identify the time period and market.

4a. Have there been any changes in the end uses and applications of the Domestic Like Product in the U.S. market or in the market for the Subject Merchandise in the Subject Country since the Order Date? _No _Yes

If your answer is yes, dscuss any significant changes, noting the time period and market in which they occurred.

4b. Do you anticipate any changes in terms of the end uses and applications of the Domestic Like Product in the U.S. market or in the market for the Subject Merchandise in the Subject Country within a reasonably foreseeable time? _No _Yes

If your answer is yes, please describe any significant changes and identify the time period and market.

5a. Have there been any changes in the existence and availability of substitute products for the Domestic Like Product in the U.S. market or in the market for the Subject Merchandise in the Subject Country since the Order Date? _No _Yes

If your answer is yes, discuss any significant changes, noting the time period and market in which they occurred.

5b. Do you anticipate any changes in terms of the existence and availability of substitute products for the Domestic Like Product in the U.S. market or in the market for the Subject Merchandise in the Subject Country within a reasonably foreseeable time? _No _Yes

If your answer is yes, please describe any significant changes and identify the time period and market.

6a. Have there been any changes in the level of competition among the Domestic Like Product produced in the United States, Subject Merchandise produced in the Subject Country, and such merchandise from other countries in the U.S. market or in the market for the Subject Merchandise in the Subject Country since the Order Date? _No _Yes

If your answer is yes, discuss any significant changes, noting the time period and market in which they occurred.

6b. Do you anticipate any changes in terms of the level of competition among the Domestic Like Product produced in the United States, Subject Merchandise produced in the Subject Country, and such merchandise from other countries in the U.S. market or in the market for the Subject Merchandise in the Subject Country within a reasonably foreseeable time? _No _Yes

If your answer is yes, please describe any significant changes and identify the time period and market.

7a. Have there been any changes in the business cycle for the Domestic Like Product in the U.S. market or in the market for the Subject Merchandise in the Subject Country since the Order Date? _No _Yes

If your answer is yes, discuss any significant changes, noting the time period and market in which they occurred.

7b. Do you anticipate any changes in terms of the business cycle for the Domestic Like Product in the U.S. market or in the market for the Subject Merchandise in the Subject Country within a reasonably foreseeable time? _No _Yes

If your answer is yes, please describe any significant changes and identify the time period and market.

By order of the Commission.
Issued: July 11, 2008.
Marilyn R. Abbott,
Secretary to the Commission.

[FR Doc. E8-16282 Filed 7-16-08; 8:45 am]

BILLING CODE 7020-02-P